ENVIRONMENTAL PROTECTION AGENCY

40 CFR Part 70

[IN003; FRL-7020-7]

Clean Air Act Proposed Full Approval of 40 CFR Part 70 Operating Permits Program; Indiana

AGENCY: Environmental Protection Agency (EPA).

ACTION: Proposed rule.

SUMMARY: The EPA proposes full approval of the operating permits program submitted by Indiana for the purpose of complying with standards under which States develop, and submit to EPA, programs for issuing operating permits to all major stationary sources, and to certain other sources.

DATES: Comments on this proposed action must be received on or before August 29, 2001.

ADDRESSES: Copies of the State's submittal and other supporting information used in developing the proposed approval are available for inspection during normal business hours at the following location: EPA Region 5, 77 West Jackson Boulevard, AR-18J, Chicago, Illinois, 60604. Please contact Nancy Mugavero at (312) 353-4890 to arrange a time if inspection of the submittal is desired.

FOR FURTHER INFORMATION CONTACT: Nancy Mugavero, AR-18J, 77 West Jackson Boulevard, Chicago, Illinois, 60604, Telephone Number: (312) 353-4890, E-Mail Address: mugavero.nancy@epa.gov.

SUPPLEMENTARY INFORMATION: This section provides additional information by addressing the following questions:

What is being addressed in this document?

What are the program changes that EPA proposes to approve?

What is involved in this proposed action?

What Is Being Addressed in This Document?

As required under subchapter V of the Clean Air Act (“the Act”) as amended (1990), EPA has promulgated regulations which define the minimum elements of an approvable State operating permits program and the corresponding standards and procedures by which the EPA will approve, oversee, and withdraw approval of State operating permits programs (see 57 FR 32250 (July 21, 1992)). These regulations are codified at 40 Code of Federal Regulations (CFR) part 70. Pursuant to subchapter V, generally known as Title V, States develop, and submit to EPA, programs for issuing these operating permits to all major stationary sources and to certain other sources.

The EPA's program review occurs under section 502 of the Act and the part 70 regulations, which together outline criteria for approval or disapproval. Where a program substantially, but not fully, meets the requirements of part 70, EPA may grant the program interim approval for a period of up to 2 years. If EPA has not fully approved a program by 2 years after the November 15, 1993 date, or by the expiration of an interim program, it must establish and implement a Federal program.

The Indiana Department of Environmental Management (IDEM) submitted its Title V operating permits program (Title V program) for approval on August 10, 1994. EPA promulgated interim approval of the Indiana Title V program on November 14, 1995 (60 FR 57188), and the program became effective on December 14, 1995. Subsequently, EPA extended Indiana's Title V interim approval period on several occasions, most recently to December 1, 2001 (65 FR 32036).

IDEM submitted amendments to its Title V program for our approval on May 22, 1996. These amendments were intended to correct interim approval issues identified in the November 14, 1995, action.

What Are the Program Changes That EPA Proposes To Approve?

A. Title V Interim Approval Corrections

On November 14, 1995, EPA promulgated interim approval for the Indiana Title V program, stating the State must amend the insignificant activity threshold for SO2 and hazardous air pollutants (HAPs) to receive full approval. The SO2 threshold was 10 pounds per hour (lb/hr) or 50 pounds per day (lb/day), which is equivalent to 9.13 tons per year (tpy). The HAPs threshold was 4 tpy for one HAP or 10 tpy for any combination of HAPs. EPA believed that these thresholds were too high and noted that they were significantly above what EPA had accepted in other State programs.

On May 22, 1996, IDEM submitted revised program regulations, including 326 IAC 2-7-1(20)(A)(iii) which defines the insignificant activity threshold for SO2 emissions as 5 lb/hr or 25 lb/day. A source must meet both the lb/hr and the lb/day levels to qualify as an insignificant activity. These levels equal a maximum potential of 4.56 tpy of SO2. Indiana's lb/day thresholds are more stringent than a simple tpy threshold. A source limited to 25 lb/day would have to operate at its maximum potential for every day of a calendar year to achieve emissions of 4.56 tpy. In reality, such sources would have lower annual emissions. The 4.56 tpy SO2 threshold is equivalent to Indiana's thresholds for nitrogen oxides and particulate matter approved by EPA in the November 14, 1995, rulemaking. EPA believes that this SO2 insignificant activity threshold is reasonable and resolves the interim approval issue.

In addition, IDEM has amended 326 2-7-1(20)(C)(i) and (ii) to define the insignificant activity threshold for HAP emissions as 5 lb/day or 1 tpy for a single HAP and 12.5 lb/day or 2.5 tpy for any combination of HAPs. A source must meet both the lb/day and the tpy levels to qualify as an insignificant activity. Indiana's lb/day thresholds are more stringent than a simple tpy threshold. A source limited to 5 lb/day per HAP would have to operate at its maximum potential for every day of a calendar year to achieve emissions of 0.91 tpy and a source limited to 12.5 lb/day for a combination of HAPs would have to operate at its maximum potential for every day of a calendar year to achieve emissions of 2.28 tpy. In reality, such sources would have lower annual emissions. EPA believes that IDEM's new HAP insignificant activity levels are reasonable and resolve the interim approval issue.

B. Other Title V Program Revisions

In addition to revising the SO2 and HAPs insignificant activity thresholds, the May 22, 1996, submittal also contained other amendments to the State Title V regulations. We have identified inconsistencies between some of these revisions and the requirements of 40 CFR part 70. Indiana is currently in the process of revising these regulations to address the inconsistencies with part 70. Therefore, we are not taking action on these other revisions in today's document. As mentioned in more detail below, any uncorrected deficiencies will be addressed in a notice of deficiency to be published by EPA by December 1, 2001.

C. Implementation of Section 112(g)

As a condition of approval of the Title V program, States are required to implement section 112(g) of the Act. The EPA promulgated rulemaking on December 27, 1996 (61 FR 68384) requiring States to certify that their program meets all section 112(g) requirements. Indiana submitted a letter to EPA on May 1, 1998, certifying that the State regulations in 326 IAC 2-1-3.4 meet the section 112(g) requirements. The EPA sent a letter to Indiana on June 18, 1998, acknowledging the certification of Indiana's 112(g) program. This program became federally enforceable on June 29, 1998.

What Is Involved in This Proposed Action?

A. Proposed Action

The EPA proposes full approval of the operating permits program submitted by IDEM based on the revisions submitted on May 22, 1996, which satisfactorily address the program deficiencies identified in EPA's November 14, 1995 interim approval rulemaking.

B. Citizen Comment Letters on Indiana Title V Program

On May 22, 2000, EPA promulgated a rulemaking that extended the interim approval period of 86 operating permits programs until December 1, 2001. (65 FR 32035) The action was subsequently challenged by the Sierra Club and the New York Public Interest Research Group (NYPIRG). In settling the litigation, EPA agreed to publish a document in the Federal Register that would alert the public that they may identify and bring to EPA's attention alleged programmatic and/or implementation deficiencies in Title V programs and that EPA would respond to their allegations within specified time periods if the comments were made within 90 days of publication of the Federal Register notice.

Several citizens commented on what they believe to be deficiencies with respect to the Indiana Title V program. EPA takes no action on those comments in today's action and will respond to them by December 1, 2001. As stated in the Federal Register document published on December 11, 2000, (65 FR 77376) EPA will respond by December 1, 2001 to timely public comments on programs that have obtained interim approval; and EPA will respond by April 1, 2002 to timely comments on fully approved programs. We will publish a notice of deficiency (NOD) when we determine that a deficiency exists, or we will notify the commenter in writing to explain our reasons for not making a finding of deficiency.

Administrative Requirements

Under Executive Order 12866, “Regulatory Planning and Review” (58 FR 51735, October 4, 1993), this proposed action is not a “significant regulatory action” and therefore is not subject to review by the Office of Management and Budget. Under the Regulatory Flexibility Act (5 U.S.C. 601 et seq.) the Administrator certifies that this proposed rule will not have a significant economic impact on a substantial number of small entities because it merely approves state law as meeting federal requirements and imposes no additional requirements beyond those imposed by state law. This rule does not contain any unfunded mandates and does not significantly or uniquely affect small governments, as described in the Unfunded Mandates Reform Act of 1995 (Public Law 104-4) because it proposes to approve pre-existing requirements under state law and does not impose any additional enforceable duties beyond that required by state law. This rule also does not have tribal implications because it will not have a substantial direct effect on one or more Indian tribes, on the relationship between the Federal Government and Indian tribes, or on the distribution of power and responsibilities between the Federal Government and Indian tribes, as specified by Executive Order 13175, “Consultation and Coordination with Indian Tribal Governments” (65 FR 67249, November 9, 2000). This rule also does not have Federalism implications because it will not have substantial direct effects on the States, on the relationship between the national government and the States, or on the distribution of power and responsibilities among the various levels of government, as specified in Executive Order 13132, “Federalism” (64 FR 43255, August 10, 1999). The rule merely proposes to approve existing requirements under state law, and does not alter the relationship or the distribution of power and responsibilities between the State and the Federal government established in the Clean Air Act. This proposed rule also is not subject to Executive Order 13045, “Protection of Children from Environmental Health Risks and Safety Risks” (62 FR 19885, April 23, 1997) or Executive Order 13211, “Actions Concerning Regulations That Significantly Affect Energy Supply, Distribution, or Use” (66 FR 28355 (May 22, 2001), because it is not a significantly regulatory action under Executive Order 12866.

In reviewing State operating permit programs submitted pursuant to Title V of the Clean Air Act, EPA will approve State programs provided that they meet the requirements of the Clean Air Act and EPA's regulations codified at 40 CFR part 70. In this context, in the absence of a prior existing requirement for the State to use voluntary consensus standards (VCS), EPA has no authority to disapprove a State operating permit program for failure to use VCS. It would thus be inconsistent with applicable law for EPA, when it reviews an operating permit program , to use VCS in place of a State program that otherwise satisfies the provisions of the Clean Air Act. Thus, the requirements of section 12(d) of the National Technology Transfer and Advancement Act of 1995 (15 U.S.C. 272 note) do not apply.

List of Subjects in Part 70

Environmental protection, Administrative practice and procedure, Air pollution control, Intergovernmental relations, Operating permits, Reporting and recordkeeping requirements.

Authority: 42 U.S.C. 7401-7671q.

Dated: July 13, 2001.
Gary Gulezian,
Acting Regional Administrator, Region 5.

[FR Doc. 01-18884 Filed 7-27-01; 8:45 am]

BILLING CODE 6560-50-P